DEPARTMENT OF HOMELAND SECURITY

Coast Guard

33 CFR Part 117

[Docket No. USCG-2017-0085]

Drawbridge Operation Regulation; Mianus River, Greenwich, CT

AGENCY: Coast Guard, DHS.

ACTION: Notice of deviation from drawbridge regulation.

SUMMARY: The Coast Guard has issued a temporary deviation from the operating schedule that governs the Metro-North Bridge across the Mianus River, mile 1.0 at Greenwich, Connecticut. This deviation is necessary in order to complete required maintenance including installation of new timber ties, miter rails, and steel repairs.

DATES: This deviation is effective from 12:01 a.m. on March 27, 2017 through 12:01 a.m. on May 9, 2017.

ADDRESSES: The docket for this deviation, USCG-2017-0085 is available at http://www.regulations.gov. Type the docket number in the “SEARCH” box and click “SEARCH”. Click on Open Docket Folder on the line associated with this deviation.

FOR FURTHER INFORMATION CONTACT: If you have questions on this temporary deviation, call or email James Moore, Bridge Management Specialist, First District Bridge Branch, U.S. Coast Guard; telephone 212-514-4334, email james.m.moore2@uscg.mil.

SUPPLEMENTARY INFORMATION: The owner of the bridge, the Connecticut Department of Transportation, requested a temporary deviation in order to facilitate maintenance of the bridge including installation of timber ties, miter rail replacement, and steel repairs.

The Metro-North Bridge across the Mianus River, mile 1.0 at Greenwich, Connecticut is a single-leaf bascule railroad bridge offering mariners a vertical clearance of 20 feet at mean high water and 27 feet at mean low water in the closed position. The existing drawbridge operating regulations are listed at 33 CFR 117.209.

The temporary deviation will allow the owner of the Metro-North Bridge to close the span for openings each week beginning 8 a.m. Monday through 4 p.m. Friday from March 27, 2017 to May 8, 2017. The span will open on signal from 4 p.m. Friday through 8 a.m. Monday, provided 24 hours advance notice is given. The regular operating schedule for the span will be restored April 8, 2017 through April 11, 2017 in order to accommodate a previously scheduled boating event.

Vessels able to pass through the bridge in the closed position may do at anytime. The bridge will be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 7, 2017.
C.J. Bisignano,
Supervisory Bridge Management Specialist, First Coast Guard District.

[FR Doc. 2017-05069 Filed 3-14-17; 8:45 am]

BILLING CODE 9110-04-P